DEPARTMENT OF TRANSPORTATION

Federal Aviation Administration

14 CFR Part 73

[Docket No. FAA-2015-0618; Airspace Docket No. 15-ANM-3]

RIN 2120-AA66

Amendment of Restricted Area Boundary Descriptions; Joint Base Lewis-McChord, WA

AGENCY: Federal Aviation Administration (FAA), DOT.

ACTION: Final rule; technical amendment, correction.

SUMMARY: This action corrects a final rule; technical amendment, published in the Federal Register on April 7, 2015, that made a correction to a typographical error to R-6703A, R-6703B, R-6703C, R-6703D, R-6703E and R-6703F at Joint Base Lewis-McChord, WA. Due to a submission error, the abbreviation for West in the longitude description of restricted area R-6703A was entered as “N”. This action corrects the boundary description of R-6703A by changing the longitude direction to “W”.

DATES: Effective date 0901 UTC, May 7, 2015.

FOR FURTHER INFORMATION CONTACT: Jason Stahl, Airspace Policy and Regulations Group, AJV-11, Office of Airspace Services, Federal Aviation Administration, 800 Independence Avenue SW., Washington, DC 20591; telephone: (202) 267-8783.

SUPPLEMENTARY INFORMATION:

Background

On April 7, 2015, the FAA published a final rule; technical amendment in the Federal Register that made a correction to a typographical error to R-6703A, R-6703B, R-6703C, R-6703D, R-6703E and R-6703F at Joint Base Lewis-McChord, WA (80 FR 18519). Subsequent to publication, it was discovered that the longitude direction for R-6703A was entered as N (north) instead of W (west). The error creates an invalid geographical boundary for R-6703A. This correction replaces the abbreviation “N” with “W” in the longitude data for R-6703A.

Correction to Final Rule; Technical Amendment

Accordingly, pursuant to the authority delegated to me, the boundary description of restricted area R-6703A, Joint Base Lewis-McChord, WA, as published in the Federal Register on April 7, 2015 (80 FR 18519) (FR Doc. 2015-08005) is corrected to read as follows:

§ 73.67 [Amended]

* * * * *

R-6703A Joint Base Lewis-McChord, WA [Corrected]

On page 18521, second column, remove the current boundaries and add in its place the following:

Boundaries. Beginning at lat. 47°03′07″ N., long. 122°41′09″ W.; to lat. 47°04′34″ N., long. 122°41′09″ W.; to lat. 47°04′41″ N., long. 122°38′19″ W.; to lat. 47°03′37″ N., long. 122°35′40″ W.; to lat. 47°03′15″ N., long. 122°35′48″ W.; to lat. 47°03′06″ N., long. 122°36′51″ W.; to lat. 47°02′02″ N., long. 122°37′33″ W.; to lat. 47°02′06″ N., long. 122°38′33″ W.; to lat. 47°02′14″ N., long. 122°38′53″ W.; to lat. 47°02′19″ N., long. 122°39′14″ W.; to lat. 47°02′19″ N., long. 122°39′37″ W.; to lat. 47°02′21″ N., long. 122°40′17″ W.; to lat. 47°02′38″ N., long. 122°40′39″ W.; thence via the Nisqually River to the point of beginning.

Issued in Washington, DC, on April 14, 2015.
Donna Warren,
Acting Manager, Airspace Policy and Regulations Group.

[FR Doc. 2015-09075 Filed 4-20-15; 8:45 am]

BILLING CODE 4910-13-P